DEPARTMENT OF AGRICULTURE

Submission for OMB Review; Comment Request

July 3, 2003.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Office for Agriculture, Office of Information and Regulatory Affairs, Office of Management and Budget (OMB), Pamela_Beverly_OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained be calling (202) 720-8681.

An agency may not conduct or sponsor a collection of information unless the collection of information displays a currently valid OMB control number and the agency informs potential persons who are to respond to the collection of information that such persons are not required to respond to the collection of information unless it displays a currently valid OMB control number.

Agricultural Research Service

Title: Suggestions for changes to NAL Agricultural Thesaurus Form.

OMB Control Number: 0518—New.

Summary of Collection: The National Agricultural Thesaurus is a publication of the National Agricultural Library (NAL). The proposed “Proposal Form” is an instrument by which NAL thesaurus staff may receive feedback from online users of the thesaurus. Users may suggest additions or other changes to the thesaurus. The thesaurus staff will review each suggestion via a Proposal Review Board and provide feedback to the user.

Need and Use of the Information: Information to be submitted includes, user contact information (name, affiliation, email, phone), the proposed changes to the thesaurus, the field of study or subject area of the term being proposed, justification for the change, and any reference material which the user would like to provide as background information. The information collected will help NAL thesaurus staff to make improvements to the content and organization of the thesaurus. Failure of the NAL thesaurus staff to collect this information would significantly inhibit public relations with their users.

Description of Respondents: Federal Government; Not-for-profit institutions; Business or other for-profit; State, Local or Tribal Government.

Number of Respondents: 250.

Frequency of Responses: Reporting: On occasion.

Total Burden Hours: 42.

Agricultural Research Service

Title: Electronic Mailing List Subscription Form— Nutrition and Food Safety.

OMB Control Number: 0518-New.

Summary of Collection: The National Agricultural Library's Food Information Team (FIT) currently maintains several on-line discussion groups. The proposed “Electronic Mailing List Subscription Form” would give individuals working in the area of nutrition and food safety an opportunity to participate in these groups. Data collected using this form will help FIT determine a person's eligibility to participate in these discussion groups. The authority for the National Agricultural Library (NAL) to collect this information is contained in the CFR, Title 7, Volume 1, Part 2, and Subpart K, Sec. 2.65 (92).

Need and Use of the Information: NAL will collect the name, email address, job title, job location, mailing address and telephone number in order to approve subscription for nutrition and food safety on-line discussion groups. Failure to collect this informatin would inhibit NAL's ability to provide subscription services to these discussion groups.

Description of Respondents: State, Local and Tribal Government; Individuals or households; Federal Government.

Number of Responses: 1,000.

Frequency of Responses: Reporting : Monthly; Annually.

Total Burden Hours: 17.

Farm Service Agency

Title: Payment Eligibility/Limitation Determinations Under the Noninsured Crop Disaster Assistance Program.

OMB Control Number: 0560-0096.

Summary of Collection: The Farm Service Agency (FSA) administers certain farm programs in which the payments are subject and not subject to the established payment limitations. The Farm Security and Rural Investment Act of 2002 amended the provisions of the Food Security Act of 1985 to provide for a $40,000 limitation per crop year on the direct payments; $65,000 per crop year on counter-cyclical payments, $75,000 per crop year on the amount of marketing loan gains and loan deficiency payments a person may receive; and apply the payment eligibility provisions of the 1985 Act to payments made under the direct and counter-cyclical payment program contract, marketing loan gains and loan deficiency payments. All program participants must provide certain information concerning their farming operations for FSA to determine both the eligibility for payment and the number of “persons” for the application of the payment limitation required for the respective program. Information is captured on different forms depending upon the nature and the type of program participant's farming operation.

Need and Use of the Information: FSA will collect information to determine the eligibility for payment and the number of “persons” for the application of the payment limitation required for the respective program. Without the date, FSA cannot determine whether the individual or the entity requesting program benefits is eligible and or in compliance with the statutory and regulatory requirements of payment eligibility and payment limitation. FSA and the National Appeals Division also use the information on review in the event an appeal is filed by the producer regarding any of the determinations.

Description of Respondents: Farms; Individuals or households; Business or other for-profit.

Number of Respondents: 123,000.

Frequency of Responses: Reporting: On occasion; Other (as needed).

Total Burden Hours: 237,871.

Farm Service Agency

Title: End-Use Certificate Program.

OMB Control Number: 0560-0151.

Summary of Collection: Public Law 103-181, Section 321(f) of the North American Free Trade Agreement Implementation Act mandates that the Secretary of Agriculture shall implement, in coordination with the Commissioner of Customs and Border Protections, a program requiring that end-use certificates be included in the documentation covering the entry into the United States of any wheat originating from Canada. The end-use certificate program was designed to ensure that Canadian wheat does not benefit from USDA or CCC-assisted export programs.

Need and Use of the Information: The information collected on the end-use certificate is used in conjunction with USDA's domestic origin compliance review process during quarterly audits of contractors involved in foreign food assistance programs. The form FSA-750 “End-Use Certificate for Wheat” is used by approximately 200 importers of Canadian wheat to report entry into the United States. Form FSA-751, “Wheat Consumption and Resale Report” is used by millers and exporters to report final disposition of Canadian wheat in the U.S.

Description of Respondents: Business or other for-profit; Federal Government.

Number of Respondents: 421.

Frequency of Responses: Reporting: On occasion; Quarterly.

Total Burden Hours: 4,520.

Farm Service Agency

Title: Highly Erodible Land Conservation and Wetland Conservation (7 CFR Part 12).

OMB Control Number: 0560-0185.

Summary of Collection: The Food Security Act of 1985 as amended by the Federal Agriculture Conservation and Trade Act of 1990 and the Federal Agriculture Improvement and Reform Act of 1996 (the 1996 Act), and the Agricultural Assistance Act of 2003 (the 2003 Act) provides that any person who produces an agricultural commodity on a field that is predominately highly erodible, converts wetland, or plants an agricultural commodity on converted wetland after December 23, 1985, shall be ineligible for certain program benefits. These provisions are an attempt to preserve the nation's wetland and to reduce the rate at which the conversion of highly erodible land occurs which contributes to the national erosion problem. In order to ensure that persons who request benefits subject to the conservation restrictions get technical assistance needed and are informed regarding the compliance requirements on their land, the Farm Service Agency (FSA) collects information using several forms from producers with regard to their financial activities on their land that could affect their eligibility for requested USDA benefits.

Need and Use of the Information: Information must be collected from producers to certify that they intend to comply with the conservation requirements on their land to maintain their eligibility. Additional, information may be collected if producers request that certain activities be exempt from provisions of the statute in order to evaluate whether the exempted conditions will be met. The collection of information allows the FSA county employees to perform the necessary compliance checks and fulfill USDA's objectives towards preserving wetlands and reducing erosion.

Description of Respondents: Farms; Individuals or households.

Number of Respondents: 200,000.

Frequency of Responses: Reporting: On occasion.

Total Burden Hours: 251,153.

Animal and Plant Health Inspection Service

Title: Importation of Animal & Poultry, Animal/Poultry Products, Certain Animal Embryos, Semen, and Zoological Animals.

OMB Control Number: 0579-0040.

Summary of Collection: Title 21 U.S.C. authorizes sections 111, 114, 114a, 114-1, 115, 120, 121, 125, 126, 134a, 134f, and 134g of 21 U.S.C. These authorities permit the Secretary to prevent, control and eliminate domestic diseases such as brucellosis and tuberculosis, as well as to take actions to prevent and to manage exotic diseases such as foot-and-mouth disease and rinderpest. Disease prevention is the most effective method for maintaining a healthy animal population and enhancing the Animal and Plant Health Inspection Service (APHIS) ability to compete in exporting animals and animal products. To fulfill this mission APHIS must collect pertinent information from those individuals who import animals and poultry, animal products, zoological animals, or animal germplasm into the United States. APHIS will collect information using several forms.

Need and Use of the Information: APHIS will collect information from foreign animal health authorities seeking to engage in the regionalization process. The information includes such data as the last reported outbreak of a given animal disease in the region, the trading practices engaged in by the region, and the intensity of the disease surveillance activities occurring in the region. This vital information helps APHIS to ensure that these imports pose a negligible risk of introducing exotic animal diseases into the United States. If the information was not collected, it would cripple or destroy APHIS ability to protect the United States from exotic animal disease incursions.

Description of Respondents: Business or other for-profit; Farms.

Number of Respondents: 169,921.

Frequency of Responses: Recordkeeping; Reporting: On occasion.

Total Burden Hours: 64,870.

Animal and Plant Health Inspection Service

Title: Federal Plant Pest and Noxious Weeds Regulations.

OMB Control Number: 0579-0054.

Summary of Collection: The Plant Protection and Quarantine Program of the Animal and Plant Health Inspection Service (APHIS), United States Department of Agriculture is responsible for preventing plant pests and noxious weeds from entering the United States, preventing the spread of pests and weeds not widely distributed in the United States, and eradicating those imported pests and weeds when eradication is feasible. APHIS will collect information using several forms.

Need and Use of the Information: APHIS will collect information to evaluate the risk associated with the proposed movement of plant pest noxious weeds, and soil. APHIS will also collect information to monitor operations at facility to ensure permit conditions are being met. The information is used to determine whether a permit can be issued, and also to develop risk-mitigating conditions for the proposed movement. If the information were not collected, APHIS ability to protect the United States from a plant pest or noxious weed incursion would be significantly compromised.

Description of Respondents: Business or other for-profit; Individuals or households; Federal Government; State, Local or Tribal Government.

Number of Respondents: 39,962.

Frequency of Responses: Recordkeeping; Reporting: On occasion.

Total Burden Hours: 38,133.

Animal and Plant Health Inspection Service

Title: Animal Welfare Act, Part 3.

OMB Control Number: 0579-0093.

Summary of Collection: The Laboratory Animal Welfare Act (AWA) (Public Law 890544) enacted August 24, 1966, required the U.S. Department of Agriculture, (USDA), to regulate the humane care and handling of dog, and nonhuman primates. The legislation was the result of extensive demand by organized animal welfare groups and private citizens requesting a Federal law covering the transportation, care, and handling of laboratory animals. The Animal and Plant Health Inspection Service (APHIS), Animal Care (AC) has the responsibility to enforce the Animal Welfare Act (7 U.S.C. 2131-2156) and the provisions of 9 CFR, Subchapter A, which implements the Animal Welfare Act.

Need and Use of the Information: APHIS will collect information to insure that animal used in research facilities or exhibition purposes are provided humane care and treatment. The information is used to ensure those dealers, exhibitors, research facilities, carriers, etc., are in compliance with the Animal Welfare Act and regulations and standards promulgated under this authority of the Act.

Description of Respondents: Business or other for-profit; Not for-profit institutions; State, Local or Tribal Government.

Number of Respondents: 5,000.

Frequency of Responses: Recordkeeping; Reporting: On occasion.

Total Burden Hours: 34,918.

Animal and Plant Health Inspection Service

Title: Conifer Solid Wood Packing Material to China, Export Certification.

OMB Control Number: 0579-0147.

Summary of Collection: The Plant Protection and Quarantine Program of the Animal and Plant Health Inspection Service (APHIS), United States Department of Agriculture is responsible for preventing plant diseases or insect pests from entering the United States, preventing the spread of pests not widely distributed in the United States, and eradicating those imported pests and weeds when eradication is feasible. The Federal Plant Pest Act authorizes the Department to carry out this mission. APHIS provides export certification services to assure other countries that the plants and plant products (as well as associated packing materials) they are receiving from the United States are free of prohibited (or regulated) plant diseases and insect pest. Effective January 1, 2000, the government of China requires goods from the United States to be accompanied by either a statement from the exporter that the shipment does not contain any softwood (conifer) packing materials, or by an APHIS-issued certificate certifying that the conifer packing materials in the shipment have been heat treated by being subjected to a minimum core temperature of 56 degrees Celsius for 30 minutes. APHIS will collect information using form PPQ 553, “Certificate of Heat Treatment.”

Need and Use of the Information: APHIS will collect the names and address of the exporter and the consignee and a description of the consignment. APHIS will also collect information certifying that heat treatment has been performed, as well as the actual certification. The information is needed to assure China that conifer packing materials from the United States do not harbor insect pests such as the pine wood nematode. If the information is not collected, this would cause China to refuse any shipments from the United States that contained conifer packing materials.

Description of Respondents: Business or other for-profit; Individuals or households; State, Local or Tribal Government.

Number of Respondents: 6,500.

Frequency of Responses: Recordkeeping; Reporting: On occasion.

Total Burden Hours: 2,808.

Animal and Plant Health Inspection Service

Title: Field Testing of Plants Engineered to Produce Pharmaceutical and Industrial Compounds.

OMB Control Number: 0579-0216.

Summary of Collection: Under the authority of the Plant Protection Act (7 U.S.C. 7701-7772), the Secretary of Agriculture has delegated to the Administrator of the Animal and Plant Health Inspection Service (APHIS) the authority to regulate the introduction (importation, interstate movement or release into the environment) of organisms and products altered or produced through genetic engineering, where any such organism may be a plant pest or that there is reason to believe are plant pests (7 CFR Parts 330 and 340, Plant Pest; Introduction of Genetically Engineered Organisms or Products). Since the inception of the biotechnology regulatory program in USDA, APHIS in 1987 with the publication of 7 CFR Parts 330 and 340 thousands of field tests have been performed safely with plant engineered to contain agronomic improvement traits such as resistance to disease, pests or tolerance to specific herbicides. APHIS will collect information through permitting procedures defined in the permit application APHIS Form 2000, “Application for Permit or Courtesy Permit Under 7 CFR 340.”

Need and Use of the Information: APHIS will collect information to monitor, audit and verify compliance with more stringent permitting conditions for pharmaceutical manufacturing plants traits. APHIS will also collect information to ensure that no volunteers or regulated material is allowed to remain to be disseminated into the environment. Without the required information, APHIS could not carry out its mission to prevent the introduction or dissemination of plant pests in the United States.

Description of Respondents: Business or other for-profit; Not-for-profit institutions.

Number of Respondents: 12.

Frequency of Responses: Recordkeeping; Reporting: On occasion.

Total Burden Hours: 804.

Food and Nutrition Service

Title: Summer Food Service Program Claim for Reimbursement.

OMB Control Number: 0584-0041.

Summary of Collection: The Summer Food Service Program Claim for Reimbursement Form is used to collect meal and cost data from sponsors to determine the reimbursement entitlement for meals served. The form is sent to the Food and Nutrition Service's (FNS) Regional Offices where it is entered into a computerized payment system. The payment system computes earnings to date and the number of meals to date and generates payments for the amount of earnings in excess of prior advance and claim payments. To fulfill the earned reimbursement requirements set forth in the Summer Food Service Program Regulation issued by the Secretary of Agriculture (7 CFR 225.9), the meal and cost data must be collected on the FNS-143 claim form.

Need and Use of the Information: FNS will collect information to manage, plan, evaluate, and account for government resources. The reports and records are required to ensure the proper and judicious use of public funds. If the information is not collected on the claim form, the sponsor could not receive reimbursement.

Description of Respondents: Not-for-profit; institutions; State, Local or Tribal Government.

Number of Respondents: 212.

Frequency of Responses: Recordkeeping; Reporting: Other (Summer).

Total Burden Hours: 610.

Food and Nutrition Service

Title: Coupon Account and Destruction Report.

OMB Control Number: 0584-0053.

Summary of Collection: Section 7 of the Food Stamp Act of 1977, requires the Secretary to develop appropriate procedures for determining and monitoring the amount of food coupon inventories maintained by State agencies for the Food Stamp Program. The Food and Nutrition Service (FNS) administers and Food Stamp Program on behalf of the Secretary of Agriculture and issues regulations which ensure the proper control and accounting for food stamp coupons that are no longer usable. Form FNS-471 is used by FNS to obtain consistent documentation from State agencies to account for unusable coupons as well as coupons destroyed.

Need and Use of the Information: FNS uses the information gathered through monthly submissions of the FNS-471 to substantiate benefit de-obligations reported by State agencies, reconcile coupon inventory reports, and determine benefits returned as payment on claims.

Description of Respondents: State, Local, or Tribal Government; Federal Government.

Number of Respondents: 3,896.

Frequency of Responses: Reporting: Monthly.

Total Burden Hours: 5,474.

Food and Nutrition Service

Title: WIC Federal and State Agreement.

OMB Control Number: 0584-0332.

Summary of Collection: The Women, Infants, and Children (WIC) and the Farmers' Market Nutrition Program (FMNP) are carried out by the U.S. Department of Agriculture under Section 17 of the Child Nutrition Act (CNA) of 1966, as amended. Form FNS-399 is the agreement between USDA and the State agency. The agreement empowers USDA to release funds to the State agency to operate the Women, Infants and Children (WIC) Program or the Farmers' Market Nutrition Program (FMNP).

Need and Use of the Information: FNS will collect information to authorize payment of cash grants to State agencies, which operate the program locally through nonprofit organizations and must ensure coordination of the Program among the appropriate agencies and organizations. Each FMNP or WIC State agency desiring to administer the program shall annually enter into a written agreement with USDA for administration of the program in the jurisdiction of the State agency. If the information is not collected, Federal funds cannot be provided to the State agency without a signed agreement.

Description of Respondents: State, Local, or Tribal Government.

Number of Respondents: 101.

Frequency of Responses: Recordkeeping; Reporting: Annually.

Total Burden Hours: 25.

Food and Nutrition Service

Title: Supplemental Form for Collecting Taxpayer Identifying Numbers.

OMB Control Number: 0584-0501.

Summary of Collection: Section 3100(y) of the Debt Collection Improvement Act of 1996 (Public Law 104-134) requires all Federal agencies to obtain taxpayer identifying numbers (TINs) from all individuals and entities they do business with, and to furnish the TIN whenever a request for payment is submitted to Federal payment officials. A taxpayer identifying number can be either a Social Security Number or an Employer Identification Number. The Food and Nutrition Service will collect information using form FNS-711.

Need and Use of the Information: FNS will collect taxpayer identify numbers from individuals and entities receiving payments directly from the agency under any of the various nutrition and nutrition education programs. The information will be collected at the time of program application and will only be collected once unless an entity renews its application or reapplies for program participation. If the information is not collected, FNS would be unable to include taxpayer identifying numbers with each certified request for payment.

Description of Respondents: Business or other for-profit; Individuals or households; Not-for-profit institutions.

Number of Respondents: 800.

Frequency of Responses: Reporting: On occasion; Other (At time of app.)

Total Burden Hours: 66.

Rural Housing Service

Title: 7 CFR 1942-A, Community Facility Loans.

OMB Control Number: 0575-0015.

Summary of Collection: The Rural Housing Service (RUS) is a credit agency within the Rural Development (RD) mission area of the U.S. Department of Agriculture (USDA). The Community Programs Division of the RHS administers the Community Facilities program under 7 CFR Part 1942, Subpart A. Rural Development provides loan and grant funds through the Community Facilities program to finance many types of projects varying in size and complexity, from large general hospitals to small fire trucks. The facilities financed are designed to promote the development of rural communities by providing the infrastructure necessary to attract residents and rural jobs.

Need and Use of the Information: RHS' field offices will collect information from applicants/borrowers to determine applicant/borrower eligibility, project feasibility, and to ensure borrowers operate on a sound basis and use loan and grant funds for authorized purposes. Failure to collect proper information could result in improper determinations of eligibility, improper use of funds, and/or unsound loans.

Description of Respondents: Not-for-profit institutions; Business or other for-profit; State, Local or Tribal Government.

Number of Respondents: 3,231.

Frequency of Responses: Recordkeeping; Reporting: On occasion.

Total Burden Hours: 51,441.

Rural Utilities Service

Title: Certification of Authority.

OMB Control Number: 0572-0074.

Summary of Collection: The Rural Utilities Service (RUS) is a credit agency that makes mortgage loans and loan guarantees to finance electric, telecommunications, and water and waste facilities in rural areas. Rural Electrification Act of 1936, 7 U.S.C. 901 et seq, as amended, (RE Act) gives authorization to the Secretary to make loans for rural electrification for the purpose of furnishing and improving electric and telephone service in rural areas. RUS will manage the loan programs as prescribed by Office of Management and Budget (OMB) Circular A-129, Policies for Federal Credit Programs and Non-Tax Receivables, which states that agencies must, based on a review of a loan application, determine that an applicant complies with statutory, regulatory, and administrative eligibility requirements for loan assistance. A major factor in managing loan programs is controlling the advancement of funds. RUS Form 675, Certificate of Authority, allows this control to be achieved by providing a list of authorized signatures against which signatures requesting funds are compared.

Need and Use of the Information: RUS will collect information to ensure that only authorized representatives of the borrowers signs the lending requisition form. Without the information, RUS would not know if the request for a loan advance was legitimate or not and so the potential for waste, loss, unauthorized use, and misappropriation would be increased.

Description of Respondents: Not-for-profit institutions; Business or other for-profit; State, Local or Tribal Government.

Number of Respondents: 625.

Frequency of Responses: Reporting: On occasion.

Total Burden Hours: 63.

Rural Utilities Service

Title: 7 CFR 1717 Subpart Y, Settlement of Debt Owed by Electric Borrowers.

OMB Control Number: 0572-0116.

Summary of Collection: The Rural Utilities Service (RUS) makes mortgage loans and loan guarantees to electric systems to provide and improve electric service in rural areas pursuant to the Rural Electrification Act of 1936, as amended (7 U.S.C. 901 et seq.) (RE Act). Only those electric borrowers that are unable to fully repay their debts to the government and who apply to RUS for relief will be affected by this collection of information. The information collected will be similar to that which any prudent lender would require to determine whether debt settlement is required and the amount of relief that is needed.

Need and Use of the Information: RUS will collect information to determine the need for debt settlement; the amount of debt the borrower can repay; the future scheduling of debt repayment; and, the range of opportunities for enhancing the amount of debt that can be recovered.

Description of Respondents: Not-for-profit institutions; Business or other for-profit.

Number of Respondents: 1.

Frequency of Responses: Reporting: On occasion.

Total Burden Hours: 3,000.

Rural Utilities Service

Title: Water and Waste Disposal Programs Guaranteed Loans.

OMB Control Number: 0572-0121.

Summary of Collection: The Consolidated Farm and Rural Development Act authorizes Rural Utilities Service (RUS) to make loans to public agencies, nonprofit corporations, and Indian tribes for the development of water and waste disposal facilities primarily servicing rural residents with populations up to 10,000 residents. The reporting requirements to administer the Waste and Water Disposal Program relate to 7 CFR part 1780.

Need and Use of the Information: Rural Development's field offices will collect information from applicants/borrowers and consultants to determine eligibility and project feasibility. The information will help to ensure borrowers operate on a sound basis and use loan funds for authorized purposes. There are agency forms required as well as other requirements that involve certifications from the borrower, lenders, and other parties. Failure to collect proper information could result in improper determinations of eligibility, use of funds and or unsound loans.

Description of Respondents: Business or other for-profit.

Number of Respondents: 6,000.

Frequency of Responses: Reporting: On occasion; Annually; Recordkeeping.

Total Burden Hours: 132,069.

Agricultural Marketing Service

Title: Reporting Requirements Under Regulations Governing Inspection and Grading Services of Manufactured or Processed Dairy Products.

OMB Control Number: 0581-0126.

Summary of Collection: The Agricultural Marketing Act (AMA) of 1946 (7 U.S.C. 1621-1627), directs and authorizes the Department to develop standards of quality, condition, quantity, grading programs, and services to enable a more orderly marketing of agricultural products. The Government, industry and consumer will be well served if the Government can help insure that dairy products are produced under sanitary conditions and that buyers have the choice of purchasing the quality of the product they desire. The dairy grading program is a voluntary user fee program. In order for a voluntary inspection program to perform satisfactorily with a minimum of confusion, information must be collected to determine what services are requested.

Need and Use of the Information: The information collected is used to identify the product offered for grading, to identify and contact the individuals responsible for payment of the grading fee and to identify the person responsible for administering the grade label program. The Agriculture Marketing service will use forms to collect essential information to carry out and administer the inspection and grading program.

Description of Respondents: Business or other for-profit.

Number of Respondents: 400.

Frequency of Responses: Reporting: On occasion.

Total Burden Hours: 360.

Agricultural Marketing Service

Title: Sweet Cherries Grown in Designated Counties in Washington, M.O. 923.

OMB Control Number: 0581-0214.

Summary of Collection: The Agricultural Marketing Service (AMS) has the responsibility for the national commodity research and promotion programs. The Agriculture Marketing Agreement Act of 1937 was designed to permit regulation of certain agricultural commodities for the purpose of providing orderly marketing conditions in interstate commerce and improving returns to growers. The Market Order No. 923 authorizes the issuance of grade, size, quality, maturity, pack, container, inspection and reporting requirements. The order authorizes the establishment of marketing research and development projects.

Need and Use of the Information: Forms were developed as a convenience to persons who are required to file information with the Committee. Handlers or receivers desiring to ship or receive sweet cherries for grading or packing outside the production area must complete the application forms. This form is completed prior to receiving any production area sweet cherries each year. The handlers or receivers report all Washington sweet cherries shipped or received for grading or packing outside the production area.

Description of Respondents: Business or other for-profit; State, Local or Tribal Government.

Number of Respondents: 6.

Frequency of Responses: Reporting: On occasion.

Total Burden Hours: 5.

Food and Nutrition Service

Title: Quality Control Review Schedule.

OMB Control Number: 0584-0299.

Summary of Collection: States agencies are required to perform Quality Control (QC) review for the Food Stamp Program (FSP). The legislative basis for the operation of the QC system is provided by Section 16 of the Food Stamp Act of 1977. The FNS-380-1, Quality Control Review Schedule is for State use to collect both QC data and case characteristics for the Food Stamp Program and to serve as the comprehensive data entry form for FSP QC reviews.

Need and Use of the Information: The Food and Nutrition Service (FNS) will collect information to monitor and reduce errors, develop policy strategies and analyze household characteristic data. In addition, FNS will use the data to determine sanctions and incentive based on error rate performance, and to estimate the impact of some program changes to FSP participation and costs by analyzing the available household characteristic data.

Description of Respondents: State, Local, or Tribal Government; Federal Government; Individuals or households.

Number of Respondents: 53.

Frequency of Responses: Recordkeeping; Reporting: Weekly; Monthly.

Total Burden Hours: 58,729.

Sondra A. Blakey,
Departmental Information Collection Clearance Officer.

[FR Doc. 03-17347 Filed 7-8-03; 8:45 am]

BILLING CODE 3410-01-M